NATIONAL TRANSPORTATION SAFETY BOARD

Proposed Information Collection Activity: Submission for OMB Review; Comment Request

AGENCY: National Transportation Safety Board (NTSB).

ACTION: Notice.

SUMMARY: The NTSB is announcing that it is submitting an Information Collection Request (ICR) to the Office of Management and Budget (OMB) for approval, in accordance with the Paperwork Reduction Act. This ICR describes a form that the NTSB proposes to use to obtain information from operators who need to report the occurrence of a resolution advisory (RA) in which an aircraft encountered a risk of collision with another aircraft. The proposed form is shorter than the form in which the NTSB currently receives reports of incidents under 49 CFR 830.5 (NTSB Form 6120.1). This Notice informs the public that they may submit comments concerning the proposed use of this new form to the NTSB Desk Officer at the OMB.

DATES: Submit written comments regarding this proposed collection of information by May 28, 2010.

ADDRESSES: Respondents may submit written comments on the collection of information to the Office of Information and Regulatory Affairs of the Office of Management and Budget, Attention: Desk Officer for the National Transportation Safety Board, Washington, DC 20503.

FOR FURTHER INFORMATION CONTACT: Scott Dunham, NTSB Office of Aviation Safety, at (202) 314-6387.

SUPPLEMENTARY INFORMATION: In accordance with OMB regulations that require this Notice for proposed ICRs, the NTSB seeks to notify the public that it may submit comments on this proposed ICR to OMB. 5 CFR 1320.10(a).

The proposed form that the NTSB seeks to use will obtain information from operators who, had they not complied with an RA, would have encountered a substantial risk of collision with another aircraft, or who received an RA while operating in class A airspace. The NTSB's purpose in proposing to use a new form is to allow operators to avoid completing the NTSB's lengthier form in which the NTSB obtains a variety of information concerning an accident or incident (Form 6120.1), when completion of the lengthier form is unnecessary. The proposed new form will solicit the following information: (1) Confirmation that the incident to be reported falls under the scope of the rule; (2) contact information, such as the submitter's name, company (if any), e-mail address, and telephone number; (3) information about the flight and aircraft, such as the call sign, type of aircraft, location and time of the occurrence, and altitude at which the aircraft experienced the RA; (4) information about the ATC services being provided to the aircraft when the RA occurred, such as the ATC facility name and communications frequency in use; and (5) a brief description of the RA type and circumstances of the incident.

For the convenience of operators who submit reports of RAs, the NTSB plans to provide the form on the NTSB Web site. The NTSB's purpose in creating this Web-based form is to provide a convenient way in which submitters may comply with a portion of the NTSB's new regulations, which became effective on March 8, 2010, 75 FR 922-01 (Jan. 7, 2010). In particular, 49 CFR 830.5(a)(10) now requires reports of the following: “Airborne Collision and Avoidance System (ACAS) resolution advisories issued either: When an aircraft is being operated on an instrument flight rules flight plan and compliance with the advisory is necessary to avert a substantial risk of collision between two or more aircraft; or to an aircraft operating in class A airspace.” The NTSB notes that this new regulation does not require reports of RAs unless compliance with the RA is necessary to avoid a substantial risk of collision between two or more aircraft, or unless an aircraft receives an RA while operating in class A airspace. Therefore, before being allowed to continue, the submitter will be asked to confirm that the proposed report involves an incident that falls within the scope of the rule. Once a submitter completes the form, the NTSB may contact the submitter and may consider asking the submitter to complete NTSB Form 6120.1, if the NTSB determines that it needs additional information.

The NTSB also notes that respondents' completion of the form is optional, because respondents may call the NTSB Communications Center or an NTSB field office if they prefer to notify the NTSB via telephone. The form will only be available on the NTSB Web site, and the NTSB has carefully reviewed the form to ensure that it has used plain, coherent, and unambiguous terminology in its requests for information. The form is not duplicative of another agency's collection of information. The NTSB believes this proposed form, given its brevity, will impose a minimal burden on respondents: the NTSB estimates that respondents will spend approximately 10 minutes in completing the form. The NTSB estimates that approximately 20 respondents per year will complete the form.

Dated: March 23, 2010.
Candi Bing,
Federal Register Liaison Officer.

[FR Doc. 2010-6818 Filed 3-26-10; 8:45 am]

BILLING CODE 7533-01-P